DEPARTMENT OF LABOR

Employment and Training Administration

[TA-W-65, 012]

Destination Maternity Corporation, Formerly Known as Mother's Working Incorporated, Philadelphia, PA; Notice of Termination of Investigation

Pursuant to Section 221 of the Trade Act of 1974, as amended, an investigation was initiated on January 29, 2009 in response to a petition filed on behalf of workers of Destination Maternity Corporation, formerly known as Mother's Working Inc., Philadelphia, Pennsylvania.

The petitioners have requested that the petition be withdrawn. Consequently, the investigation has been terminated.

Signed at Washington, DC, this 20th day of March 2009.
Elliott S. Kushner,
Certifying Officer, Division of Trade Adjustment Assistance.

[FR Doc. E9-8276 Filed 4-10-09; 8:45 am]

BILLING CODE 4510-FN-P